FEDERAL COMMUNICATIONS COMMISSION

47 CFR Part 1

[WC Docket No. 07-245; FCC 07-187]

Implementation of Section 224 of the Act; Amendment of the Commission's Rules and Policies Governing Pole Attachments; Correction

AGENCY: Federal Communications Commission.

ACTION: Proposed rule; correction.

SUMMARY: This document corrects the reply comment date for a proposed rule published in the Federal Register of February 6, 2008. The corrected reply comment date is April 7, 2008.

FOR FURTHER INFORMATION CONTACT: Jonathan Reel, 202-418-0637.

Correction

In proposed rule FR Doc. E8-2177, beginning on page 6879 in the issue of February 6, 2008, make the following corrections:

1. On page 6879, in the Dates section, in the 2nd column, “Reply Comments are due March 24, 2008” is corrected to read “Reply Comments are due April 7, 2008”.

2. On page 6879, in the Supplementary Information section, in the 2nd column, change “Reply Comments on or before March 24, 2008” is corrected to read “Reply Comments on or before April 7, 2008”.

3. On page 6883, in the Initial Regulatory Flexibility Analysis section, in paragraph 19, in the 2nd column, “Reply Comments are due on March 24, 2008” is corrected to read “Reply Comments are due on April 7, 2008”.

4. On page 6883, in the Initial Regulatory Flexibility Analysis section, in paragraph 21, in the 2nd column, “Reply Comments are due March 24, 2008” is corrected to read “Reply Comments are due April 7, 2008”.

Federal Communications Commission.
Ruth A. Dancey,
Associate Secretary.

[FR Doc. E8-2564 Filed 2-11-08; 8:45 am]

BILLING CODE 6712-01-P